ENVIRONMENTAL PROTECTION AGENCY

40 CFR Parts 52 and 70

[IA 167-1167a; FRL-7458-8]

Approval and Promulgation of Implementation Plans and Operating Permits Program; State of Iowa

AGENCY: Environmental Protection Agency (EPA).

ACTION: Direct final rule.

SUMMARY: EPA is announcing it is approving an amendment to the Iowa State Implementation Plan (SIP) and Operating Permits Programs. The State of Iowa has requested that EPA approve revisions to its definitions rule, construction and operating permit rules, and monitoring and measurement rule. Approval of these revisions will ensure consistency between the State and Federally-approved rules, and ensure Federal enforceability of the State's rule revisions.

DATES: This direct final rule will be effective May 6, 2003, unless EPA receives adverse comments by April 7, 2003. If adverse comments are received, EPA will publish a timely withdrawal of the direct final rule in the Federal Register informing the public that the rule will not take effect.

ADDRESSES: Comments may be mailed to Wayne Kaiser, Environmental Protection Agency, Air Planning and Development Branch, 901 North 5th Street, Kansas City, Kansas 66101.

Copies of documents relative to this action are available for public inspection during normal business hours at the above-listed Region 7 location. The interested persons wanting to examine these documents should make an appointment with the office at least 24 hours in advance.

FOR FURTHER INFORMATION CONTACT: Wayne Kaiser at (913) 551-7603.

SUPPLEMENTARY INFORMATION: Throughout this document whenever “we,” “us,” or “our” is used, we mean EPA. This section provides additional information by addressing the following questions:

What is a SIP?

What is the Federal approval process for a SIP?

What does Federal approval of a state regulation mean to me?

What is the part 70 Operating Permits Program?

What is being addressed in this document?

Have the requirements for approval of a SIP revision and part 70 program revision been met?

What action is EPA taking?

What Is a SIP?

Section 110 of the Clean Air Act (CAA) requires states to develop air pollution regulations and control strategies to ensure that State air quality meets the national ambient air quality standards established by us. These ambient standards are established under section 109 of the CAA, and they currently address six criteria pollutants. These pollutants are: carbon monoxide, nitrogen dioxide, ozone, lead, particulate matter, and sulfur dioxide.

Each State must submit these regulations and control strategies to us for approval and incorporation into the Federally-enforceable SIP.

Each Federally-approved SIP protects air quality primarily by addressing air pollution at its point of origin. These SIPs can be extensive, containing State regulations or other enforceable documents and supporting information such as emission inventories, monitoring networks, and modeling demonstrations.

What is the Federal Approval Process for a SIP?

In order for State regulations to be incorporated into the Federally-enforceable SIP, States must formally adopt the regulations and control strategies consistent with State and Federal requirements. This process generally includes a public notice, public hearing, public comment period, and a formal adoption by a state-authorized rulemaking body.

Once a State rule, regulation, or control strategy is adopted, the State submits it to us for inclusion into the SIP. We must provide public notice and seek additional public comment regarding the proposed Federal action on the State submission. If adverse comments are received, they must be addressed prior to any final Federal action by us.

All State regulations and supporting information approved by us under section 110 of the CAA are incorporated into the Federally-approved SIP. Records of such SIP actions are maintained in the Code of Federal Regulations (CFR) at title 40, part 52, entitled “Approval and Promulgations of Implementation Plans.” The actual State regulations which are approved are not reproduced in their entirety in the CFR outright but are “incorporated by reference,” which means that we have approved a given State regulation with a specific effective date.

What Does Federal Approval of a State Regulation Mean To me?

Enforcement of the State regulation before and after it is incorporated into the Federally-approved SIP is primarily a State responsibility. However, after the regulation is Federally approved, we are authorized to take enforcement action against violators. Citizens are also offered legal recourse to address violations as described in the CAA.

What Is the Part 70 Operating Permits Program?

The CAA Amendments of 1990 require all States to develop operating permits programs that meet certain Federal criteria. In implementing this program, the States are to require certain sources of air pollution to obtain permits that contain all applicable requirements under the CAA. One purpose of the part 70 operating permits program is to improve enforcement by issuing each source a single permit that consolidates all of the applicable CAA requirements into a Federally-enforceable document. By consolidating all of the applicable requirements for a facility into one document, the source, the public, and the permitting authorities can more easily determine what CAA requirements apply and how compliance with those requirements is determined.

Sources required to obtain an operating permit under this program include “major” sources of air pollution and certain other sources specified in the CAA or in our implementing regulations. For example, all sources regulated under the acid rain program, regardless of size, must obtain permits. Examples of major sources include those that emit 100 tons per year or more of volatile organic compounds, carbon monoxide, lead, sulfur dioxide, nitrogen dioxide, or PM10; those that emit 10 tons per year of any single hazardous air pollutant (HAP) (specifically listed under the CAA); or those that emit 25 tons per year or more of a combination of HAPs.

Revisions to the State and local agencies' operating permits program are also subject to public notice, comment, and our approval.

What Is Being Addressed in This Document?

The State of Iowa has requested that EPA approve as an amendment to the Iowa SIP and part 70 Operating Permits Program recently adopted revisions to its definitions rule, construction and operating permit rules, and monitoring and measurement rule. The specific rule revisions are discussed below.

Subrule 20.3(2) has been rescinded. This rule made reference to an application form to be used when applying for a variance from the open burning rules. This form is no longer used by the department. The procedures for requesting a variance are specified in rule 21.2.

Rule 22.1, which pertains to permits required for new and existing sources, has been revised to add subparagraph 22.1(1) “c” (4). This provision clarifies the notification requirements for sources which begin construction prior to obtaining a construction permit as provided for in the rule. Subparagraph (4) requires a start construction notification within 30 days after starting construction, regardless of the permit issuance status.

Subrule 22.1(2), introductory paragraph, pertaining to exemptions, was revised to clarify that units subject to new source performance standards (NSPS), National Emission Standard for Hazardous Air Pollutants (NESHAP), and prevention of significant deterioration (PSD), for example, are not eligible for an exemption from the permitting construction rules. Subparagraph 22.1(2) “i” was revised to clarify the exemption as it relates to hazardous air pollutants. Finally, subparagraph 22.1(2) “t” was added as a new exemption category. This subparagraph exempts containers, storage tanks, or vessels, containing fluid having a maximum true vapor pressure of less than 0.75 pounds per square inch absolute (psia).

Paragraph 22.3(3) “b” was revised to clarify the permit requirement of a source to notify the department of intended startup. This revision establishes a more specific time at which notification needs to be sent, as well as what information needs to be provided. The change also makes the department's deadline consistent with the deadlines in new source performance standards.

Rule 22.100—Definitions for title V operating permits, has been revised with respect to regulated air pollutant to clarify that only the PM10 fraction of particulate matter is considered when determining if a source is a major source. It also clarifies that title V fees are not required for particulate matter (excluding PM10.)

Subrule 22.101(1), pertaining to sources subject to title V permits, was revised to correct an inconsistency between this rule and a reference to rule 22.102. This revision clarifies that all source categories listed in 22.102 are exempt from obtaining a title V permit.

Subrule 22.201(2), pertaining to voluntary operating permits, has been revised to clarify exemptions related to parts 60 and 63 sources.

Subrule 22.300(3), paragraphs “b” and “c,” have been revised to clarify when sources would no longer be eligible for coverage by the operating permit by rule for small sources if those sources are subject to NSPS or NESHAP.

Subrule 300(7), paragraph “c,” has been revised to correct a reference to the record keeping required for emission units and emission control equipment. For clarification and consistency purposes, a revision was made which changes all of the references to “emission control units” to the term “emission control equipment.”

Rule 25.1—Testing and sampling of new and existing equipment, was updated to adopt more recent Federal procedures in 40 CFR parts 60 and 75.

Further discussion and background information is contained in the technical support document prepared for this action, which is available from the EPA contact listed above.

Have the Requirements for Approval of a SIP Revision and Part 70 Program Revision Been Met?

The State submittals met the public notice requirements for SIP submissions in accordance with 40 CFR 51.102. The submittals also satisfied the completeness criteria of 40 CFR part 51, Appendix V. In addition, as explained above and in more detail in the technical support document which is part of this document, the revisions meet the substantive SIP requirements of the CAA, including section 110. Finally, the submittals met the substantive requirements of title V of the 1990 CAA Amendments and 40 CFR part 70.

What Action Is EPA Taking?

EPA is processing this action as a direct final action because the revisions make routine changes to the existing rules which are noncontroversial. Therefore, we do not anticipate any adverse comments.

Final Action: EPA is approving as an amendment to the Iowa SIP revisions to rules 20.3, 22.1, 22.3, 22.201, 22.300, and 25.1 pursuant to section 110. EPA is also approving rules 22.100, 22.101, 22.201, and 22.300 as a program revision to the State's part 70 Operating Permits Program pursuant to part 70.

Administrtive Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the CAA. This rule also is not subject to Executive Order 13045, “Protection of Children from Environmental Health Risks and Safety Risks” (62 FR 19885, April 23, 1997), because it is not economically significant.

In reviewing SIP submissions, EPA's role is to approve State choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 6, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Reporting and recordkeeping requirements.

Dated: February 20, 2003.
James B. Gulliford,
Regional Administrator, Region 7.

Chapter I, title 40 of the Code of Federal Regulations is amended as follows:

PART 52—[AMENDED]

1. The authority citation for part 52 continues to read as follows:

Authority: 42 U.S.C. 7401 et seq.

Subpart Q—Iowa

2. In § 52.820 the table in paragraph (c) is amended:

a. Under Chapter 20 by revising the entry for “567-20.3”.

b. Under Chapter 22 by revising the entries for “567-22.1”, “567-22.3”, “567-22.201”, and “567-22.300.”

c. Under Chapter 25 by revising the entry for “567-25.1.”

The revisions read as follows:

§ 52.820 Identification of plan.

* * * * *

(c) * * *

EPA—Approved Iowa Regulations
Iowa citation | Title | State effective date | EPA approval date | Comments
Iowa Department of Natural Resources, Environmental Protection Commission (567)
Chapter 20—Scope of Title—Definitions—Forms—Rule of Practice
* * * * * * *
567-20.3 | Air Quality Forms Generally | 4/24/02 | 3/7/03 and FR page citation
* * * * * * *
Chapter 22—Controlling Pollution
567-22.1 | Permits Required for New or Existing Stationary Sources | 7/17/02 | 3/7/03 and FR page citation | Subrules 22.1(2), 22.1(2) “g,” 22.1(2) “i” have a state effective date of 5/23/01.
* * * * * * *
567-22.3 | Issuing Permits | 4/24/02 | 3/7/03 and FR page citation | Subrule 22.3(6) is not SIP approved.
* * * * * * *
567-22.201 | Eligibility for Voluntary Operating Permits | 4/24/02 | 3/7/03 and FR page citation
* * * * * * *
567-22.300 | Operating Permit by Rule for Small Sources | 4/24/02 | 3/7/03 and FR page citation | Subrule 22.300(7) “c” has a state effective date of 10/14/98.
* * * * * * *
Chapter 25—Measurement of Emissions
567-25.1 | Testing and Sampling of New and Existing Equipment | 4/24/02 | 3/7/03 and FR page citation
* * * * * * *

* * * * *

PART 70—[AMENDED]

1. The authority citation for part 70 continues to read as follows:

Authority: 42 U.S.C. 7401 et seq.

2. Appendix A to part 70 is amended by adding under “Iowa” paragraph (e) to read as follows:

Appendix A to Part 70—Approval Status of State and Local Operating Permits Programs

* * * * *

Iowa

* * * * *

(e) The Iowa Department of Natural Resources submitted for program approval rules “567-22.100,” “567-22.101,” “567-22.201,” and “567-22.300” on April 25, 2002. The state effective date of these rules is April 24, 2002. These revisions to the Iowa program are approved effective May 6, 2003.

* * * * *

[FR Doc. 03-5310 Filed 3-6-03; 8:45 am]

BILLING CODE 6560-50-P